DEPARTMENT OF COMMERCE

National Oceanic and Atmospheric Administration

RIN 0648-XF176

Pacific Fishery Management Council; Public Meeting

AGENCY: National Marine Fisheries Service (NMFS), National Oceanic and Atmospheric Administration (NOAA), Commerce.

ACTION: Notice of public meeting.

SUMMARY: The Pacific Fishery Management Council (Pacific Council) will convene a work session via webinar for the Scientific and Statistical Committee's (SSC) Economics Subcommittee, which is open to the public.

DATES: The webinar meeting will be held Thursday, February 9, 2017, from 9 a.m. until 5 p.m. (Pacific Daylight Time) or when business for the day has been completed.

ADDRESSES: To attend the webinar, visit: http://www.gotomeeting.com/online/webinar/join-webinar. Enter the Webinar ID, which is 480-960-155, and your name and email address (required). After logging into the webinar, dial this TOLL number 1+ (562) 247-8321 (not a toll-free number), then enter the Attendee phone audio access code: 943-128-623, then enter your audio phone pin (shown after joining the webinar). Note: We have disabled Mic/Speakers as on option and require all participants to use a telephone or cell phone to participate. You may send an email to Mr. Kris Kleinschmidt at kris.kleinschmidt@noaa.gov or contact him at 503-820-2280, extension 425 for technical assistance. A public listening station will be available at the Pacific Council office.

Council address: Pacific Fishery Management Council, 7700 NE Ambassador Place, Suite 101, Portland, OR 97220.

FOR FURTHER INFORMATION CONTACT: Mr. Brett Wiedoff, Staff Officer, Pacific Council; telephone: (503) 820-2280.

SUPPLEMENTARY INFORMATION: The primary purpose of the work session is to discuss a methodology for examining socioeconomic impacts of the Pacific Council's policies for the modification of essential fish habitat designations and rockfish conservation areas under Amendment 28 to the Pacific Coast Groundfish Fishery Management Plan.

Although nonemergency issues not contained in the meeting agenda may be discussed, those issues may not be the subject of formal action during this meeting. Action will be restricted to those issues specifically listed in this notice and any issues arising after publication of this notice that require emergency action under Section 305(c) of the Magnuson-Stevens Fishery Conservation and Management Act, provided the public has been notified of the intent of the SSC subcommittee to take final action to address the emergency.

Technical Information and System Requirements

PC-based attendees: Windows® 7, Vista, or XP operating system required. Mac®-based attendees: Mac OS® X 10.5 or newer required. Mobile attendees: iPhone®, iPad®, Android™ phone or Android tablet required (use GoToMeeting Webinar Apps).

Special Accommodations

The public listening station is physically accessible to people with disabilities. Requests for sign language interpretation or other auxiliary aids should be directed to Mr. Kris Kleinschmidt (503) 820-2280 at least 10 days prior to the meeting date.

Dated: January 17, 2017.
Tracey L. Thompson,
Acting Deputy Director, Office of Sustainable Fisheries, National Marine Fisheries Service.

[FR Doc. 2017-01478 Filed 1-23-17; 8:45 am]

BILLING CODE 3510-22-P